DEPARTMENT OF STATE

[Public Notice 3491]

Bureau of Educational and Cultural Affairs; College and University Affiliations Program for Algeria; Request for Grant Proposals

SUMMARY: The Office of Global Educational Programs of the Bureau of Educational and Cultural Affairs announces an open competition for an assistance award program to support the development of programs of instruction and faculty training at one or more universities in Algeria in business management and entrepreneurship, public administration, or another field with significant potential impact on the Algerian economy. Accredited, post-secondary educational institutions meeting the provisions described in IRS regulation 26 CFR 1.501(c) may apply to pursue institutional or departmental objectives in partnership with (an) Algerian institution(s) with support from the College and University Affiliations Program. The means for achieving the objectives of the applicant and its partner(s) may include mentoring, teaching, consultation, research, distance education, internship training, and professional outreach to public and private sector managers and entrepreneurs.

Overview and Project Objectives: The project is designed to assist one or more Algerian universities to develop a modern curriculum and program in business management or public administration to facilitate the development of business activity and the quality, efficiency and integrity of the private and public sectors in Algeria. While priority will be given to competitive proposals in business management, proposals in public administration and other fields are also eligible if the proposals demonstrate their potential impact on the Algerian economy.

In business management, proposals emphasizing practical strategies to assist the faculty to develop a new curriculum in business management focusing in accounting, finance, banking, and entrepreneurship are particularly encouraged.

In public administration proposals with potential economic impact through assistance with curriculum reform and faculty training in fields such as taxation, financial management, land registry/ownership and property rights are also eligible. All proposals should explain potential impact on the Algerian economy.

For each project, applicants are encouraged to develop outreach to and collaboration with practitioners by including them, together with junior and senior instructors, in working groups for faculty development and curriculum design and development.

Bureau policy stipulates that awards to organizations with less than four years' experience in conducting international exchanges are limited to $60,000. The Bureau anticipates awarding one or two grants from a total of $240,000 that is expected to be available to support this program. Funds will be awarded for a period up to three years to defray the costs of exchanges, to provide educational materials, and to increase library holdings and improve Internet connections. Up to 25% of the grant total may be used to defray the costs of project administration. Indirect administrative costs are not an eligible expense for Bureau funding under this competition, but may be presented as part of the U.S. institutional contribution.

The project should pursue these objectives through a strategy that coordinates the participation of junior and senior level faculty, administrators or graduate students for any appropriate combination of teaching, mentoring, internships, in-service training and outreach, for exchange visits ranging from one week to an academic year. Visits of one semester for participants from Algeria are strongly encouraged and program activities must be tied to the goals and objectives of the program. Proposals may also include English language training for selected participants whose prior knowledge of English needs to be activated or refreshed. Visits by representatives of the American partner institution to Algeria are not required, but short visits may be proposed for eventual implementation should conditions permit. All applicants should read the U.S. Department of State Travel Warning for Algeria dated March 31, 2000.

U.S. Institution and Participant Eligibility: In the United States, participation in the program is open to accredited two and four-year colleges and universities, including graduate schools, as well as to other organizations meeting the provisions described in IRS regulation 26 CFR 1.501(c). Applications from consortia or other combinations of U.S. colleges and universities are eligible. Secondary U.S. partners may include governmental and non-governmental organizations, as well as non-profit service and professional organizations. The lead U.S. university in the consortium or other combination of cooperating institutions is responsible for submitting the application. Each application must document the lead organization's authority to represent all U.S. cooperating partners.

Participants representing the U.S. institution must be U.S. citizens. With the exception of an outside consultant reporting on the degree to which project objectives have been achieved, participants who are traveling under the Bureau's grant funds must be teachers, advanced graduate students, who are teaching or research assistants, or administrators from the participating institution(s). Advanced graduate students are eligible for Bureau-funded participation in this program only if they are working under the direction of an accompanying faculty participant.

Algerian Institution and Participant Eligibility: In Algeria, the partner must be a recognized institution of post-secondary education. Secondary foreign partners may include relevant governmental and non-governmental organizations, as well as non-profit service and professional organizations concerned with issues in business development or public administration training in Algeria.

Foreign participants must be citizens or permanent residents of Algeria and qualified to receive a J-1 visa.

Budget Guidelines: Applicants may submit a budget of up to $240,000. Requests for amounts smaller than the maximum are eligible. Budget and budget notes should carefully justify the amounts needed. There must be a summary budget as well as a breakdown reflecting the program and administrative budgets including unit costs. Cost sharing will be considered an important indicator of institutional commitment.

Please refer to the Solicitation Package for complete guidelines and formatting instructions.

Announcement Title and Number: All correspondence with the Bureau of Educational and Cultural Affairs concerning this RFGP should reference the above title “College and University Affiliations Program in Algeria” and reference number ECA/A/S/U-01-13.

FOR FURTHER INFORMATION CONTACT: Contact the Humphrey Fellowships and Institutional Linkages Branch, Office of Global Educational Programs, Bureau of Educational and Cultural Affairs; ECA/A/S/U, Room 349, SA-44; U.S. Department of State, 301 4th Street, SW., Washington, DC 20547, phone (202) 619-5289, fax: (202) 401-1433, e-mail: mpizarro@pd.state.gov to request a Solicitation Package.

The Solicitation Package contains detailed award criteria, required application forms, and guidelines for preparing proposals, including specific criteria for preparation of the proposal budget. Please specify the above reference number on all inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's website at http://exchanges.state.gov/education/rfgps. Please read all information before downloading.

Deadline of Proposals: All proposal copies must be received at the Bureau of Educational and Cultural Affairs by 5 p.m. Washington, D.C. time on Friday, March 30, 2001. Faxed documents will not be accepted at any time. Documents postmarked by the due date but received on a later date will not be accepted. It is the responsibility of each applicant to ensure compliance with the deadline.

Approximate Program Dates: Grants should begin on or about August 1, 2001.

Duration: August 1, 2001-August 31, 2004.

Submissions: The U.S. institutional partner must submit the proposal. Applicants must follow all instructions in the Solicitation Package. The original and 10 copies of the application should be sent to: U.S. Department of State, SA-44, Ref.: ECA/A/S/U-01-13, Program Management, ECA/EX/PM, Room 534, 301 4th Street, SW., Washington, DC 20547.

All copies should include the documents specified under Tabs A through E in the “Project Objectives, Goals, and Implementation” (POGI) section of the Solicitation Package. The documents under Tab F of the POGI should be submitted with the original application and with one of the ten copies.

Proposals that do not follow RFGP requirements and the guidelines appearing in the POGI and PSI may be excluded from consideration due to technical ineligibility.

Applicants must also submit the “Executive Summary” and “Proposal Narrative” Sections of the proposal on a 3.5″ diskette, formatted for DOS. This material must be provided in ASCII text (DOS) format with a maximum line length of 65 characters. The Bureau will transmit these files electronically to the Public Affairs Section of the U.S. Embassy in Algiers for its review, with the goal of reducing the time it takes to get the Embassy's comments for the Bureau's grants review process.

Diversity, Freedom and Democracy Guidelines: Pursuant to the Bureau's authorizing legislation, projects must maintain a non-political character and should be balanced and representative of the diversity of American political, social, and cultural life. “Diversity” should be interpreted in the broadest sense and encompass differences including, but not limited to, ethnicity, race, gender, religion, geographic location, socio-economic status, and physical challenges. Applicants are strongly encouraged to adhere to the advancement of this principle both in program administration and in program content.

Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process: The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria: State Department officers in Washington, D.C. and overseas will use the criteria below to reach funding recommendations and decisions. Technically eligible applications will be competitively reviewed according to the criteria stated below. These criteria are not rank-ordered or weighed.

1. Quality of the Program Idea: Proposals should exhibit originality, substance, precision, and resourcefulness. Proposals should exhibit sensitivity to the region, and have reasonable and feasible project objectives that are relevant to the needs of an Algerian university. Proposals should describe projected benefits to the institutions involved as well as to wider communities of educators and practitioners in Algeria.

2. Program Planning: Proposals should include creative, realistic and feasible program plans for the development of working groups for faculty and curriculum development; a detailed schedule, which should include a well-reasoned combination of useful and appropriate mentoring, teaching techniques and outreach activities supporting the project objectives.

3. Support of Diversity: Proposals should demonstrate substantive support of the Bureau's policy on diversity by explaining how issues of diversity relate to project objectives and how these issues will be addressed during project implementation. Proposals should also outline the institutional profile of each participating institution with regard to issues of diversity.

4. Institutional Capacity and Commitment: Proposals should demonstrate significant understanding of the needs and capacities of the Algerian university as well as the needs and capacity of the U.S. institution, and should demonstrate a strong commitment to on-going cooperation during and after the period of the grant activity. Relevant factors include: the match between participating organizations or departments, and availability of sufficient number of faculty and/or administrators willing and able to participate in project activities. Proposals should demonstrate a promise of long-term impact and a plan for follow-on activities.

5. Institutional Record/Ability: Proposals should demonstrate an institutional record of administering successful exchange programs, including responsible fiscal management and full compliance with all reporting requirements for past Bureau grants as determined by the State Department's contracts officers. The Bureau will consider the past performance of prior recipients and the demonstrated potential of new applicants. Reviewers will also consider the quality of exchange participants' academic credentials, skills, commitment and experience relative to the goals and activities of the project plan.

6. Project Evaluation: The proposal should outline a methodology to assess progress toward the achievement of project goals. The final evaluation should include an external component and observations about anticipated long-term impact on the Algerian economy.

7. Cost-Effectiveness: Administrative and program costs should be reasonable and appropriate with cost sharing provided as a reflection of commitment to the pursuit of project objectives.

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the U.S. North African Economic Partnership.

Notice

The terms and conditions published in this RFGP are binding and may not be modified by any Bureau representative. Explanatory information provided by the Bureau that contradicts published language will not be binding. Issuance of the RFGP does not constitute an award commitment on the part of the Government.

The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: November 29, 2000.
William B. Bader,
Assistant Secretary for Educational and Cultural Affairs, U.S. Department of State.

[FR Doc. 00-31076 Filed 12-6-00; 8:45 am]

BILLING CODE 4710-05-P